ENVIRONMENTAL PROTECTION AGENCY

40 CFR Part 52

[MD137-3090a; FRL-7420-8]

Approval and Promulgation of Air Quality Implementation Plans; Maryland; Revision to the Control of Volatile Organic Compound Emissions From Screen Printing and Digital Imaging

AGENCY: Environmental Protection Agency (EPA).

ACTION: Direct final rule.

SUMMARY: EPA is taking direct final action to approve a revision to the Maryland State Implementation Plan (SIP). The revision consists of the establishment of reasonable available control technology (RACT) to limit volatile organic compound (VOC) emissions from an overprint varnish that is used in the cosmetic industry. The revision also adds new definitions and amends certain existing definitions for terms used in the regulation. EPA is approving this revision to the State of Maryland SIP in accordance with the requirements of the Clean Air Act (CAA).

DATES: This rule is effective on March 17, 2003, without further notice, unless EPA receives adverse written comment by February 14, 2003. If EPA receives such comments, it will publish a timely withdrawal of the direct final rule in the Federal Register and inform the public that the rule will not take effect.

ADDRESSES: Written comments should be addressed to Walter Wilkie, Acting Branch Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460, and the Maryland Department of the Environment, 1800 Washington Boulevard, Suite 705, Baltimore, Maryland 21230.

FOR FURTHER INFORMATION CONTACT: Ellen Wentworth, (215) 814-2034, or by e-mail at wentworth.ellen@epa.gov. Please note that while questions may be posed via telephone and e-mail, formal comments must be submitted in writing, as indicated in the ADDRESSES section of this document.

SUPPLEMENTARY INFORMATION:

I. Background

On February 12, 1999, the Maryland Department of the Environment (MDE) submitted a formal revision to its State Implementation Plan (SIP) revising the Code of Maryland Administrative Regulation (COMAR) 26.11.19.18, Control of Volatile Organic Compound Emissions from Screen Printing. This revision amended the previous regulation .18 by adding RACT standards for VOC emissions from digital imaging operations throughout the state. The same limits for screen printing from the previous screen printing regulation were retained (62 FR 53544, October 15, 1997). The February 12, 1999, submittal also revised Maryland's screen printing regulations to eliminate expired interim dates and limits, and repealed the existing sections B-I, and added new sections B-G. A definition for the term “digital imaging” was also added to the rule. This regulation was adopted by MDE on August 4, 1998, and became effective on August 24, 1998. EPA approved MDE's revision to its screen printing and digital imaging regulation on June 17, 1999 (64 FR 32415).

II. Summary of SIP Revision

On June 21, 2002, MDE submitted a formal revision to its SIP revising COMAR 26.11.19.18, Control of Volatile Organic Compound Emissions from Screen Printing and Digital Imaging, section C, General Requirements for Screen Printing. This revision establishes a VOC limit for overprint varnish. Overprint varnish is a FDA-regulated coating that is used by the cosmetic industry to prevent lipstick from adhering to the plastic film on sample cards sold to retail stores. Specifically, this SIP revision establishes a maximum VOC content, as applied, for overprint varnish on any substrate, of 6.03 pounds of VOC per gallon. All of the previous limits in Maryland's existing screen printing regulation have been retained. As a result, COMAR 26.11.19.18C(1)(a)-(c) has been renumbered as COMAR 26.11.19.18C(1)(b)-(d) to reflect the addition of the new requirement. This SIP revision also amends the definitions section of this rule, COMAR 26.11.19.18A, by adding a definition for the term “Overprint varnish” at COMAR 26.11.19.18A(10-1), and revising the current definition of “Clear coating” at COMAR 26.11.19.18A(4)(a) and (b) for clarification purposes.

The CAA requires each revision to a state implementation plan to be reviewed to make sure that the revision does not interfere with any applicable requirements concerning reasonable further progress (ROP) and attainment. Currently, there is one source, the Color Prelude Company, located in Anne Arundel County, Maryland, that will be affected by this revision. Growth projections for emissions from this category have been accounted for in the Maryland ROP and attainment demonstration. EPA has concluded that this regulation will not negatively impact any ROP or attainment demonstration of the ozone national ambient air quality standard (NAAQS) previously submitted by the State of Maryland, and is therefore approvable as a revision to the Maryland SIP.

III. Final Action

EPA is approving a revision to the State of Maryland SIP which was submitted on June 21, 2002, by the Maryland Department of the Environment (MDE) establishing a state-wide VOC limit to control emissions from an overprint varnish that is used in the cosmetic industry, and adds and revises definitions for terms used in the regulation. All previously approved screen printing and digital imaging requirements have been retained.

EPA is publishing this rule without prior proposal because the Agency views this as a noncontroversial amendment and anticipates no adverse comment. However, in the “Proposed Rules” section of today's Federal Register, EPA is publishing a separate document that will serve as the proposal to approve the SIP revision if adverse comments are filed. This rule will be effective on March 17, 2003, without further notice unless EPA receives adverse comment by February 14, 2003. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

IV. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by March 17, 2003. Filing a petition for reconsideration by the Administrator of this final rule does not affect the finality of this rule for the purposes of judicial review nor does it extend the time within which a petition for judicial review may be filed, and shall not postpone the effectiveness of such rule or action. This action, establishing a VOC limit for an overprint varnish that is used in screen printing by the cosmetic industry in Maryland, may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: December 4, 2002.
Thomas C. Voltaggio,
Acting Regional Administrator, Region III.

PART 52—[AMENDED]

1. The authority citation for part 52 continues to read as follows:

Authority: 42 U.S.C. 7401 et seq.

Subpart V—Maryland

2. Section 52.1070 is amended by adding paragraph (c)(177) to read as follows:

§ 52.1070 Identification of plan.

* * * * *

(c) * * *

(177) Revisions to the Code of Maryland Administrative Regulation (COMAR) 26.11.19.18 pertaining to the establishment of a VOC limit for overprint varnish used in the cosmetic industry, submitted on June 21, 2002, by the Maryland Department of the Environment:

(i) Incorporation by reference.

(A) Letter of June 21, 2002, from the Maryland Department of the Environment transmitting amendments to Regulation .18, Control of Volatile Organic Compound Emissions from Screen Printing and Digital Imaging, under COMAR 26.11.19, Volatile Organic Compounds from Specific Processes.

(B) Additions and Revisions to COMAR 26.11.19.18, Control of Volatile Organic Compound Emissions from Screen Printing and Digital Imaging under COMAR 26.11.19, Volatile Organic Compounds from Specific Processes, effective June 10, 2002:

(1) Revised COMAR 26.11.19.18A(4)(a) and added COMAR 26.11.19.18A(4)(b), revising the definition of the term “Clear coating.”

(2) Added COMAR 26.11.19.18A(10-1), adding a definition for the term “Overprint varnish.”

(3) Added COMAR 26.11.19.18C(1)(a) (General Requirements for Screen Printing). Former COMAR 26.11.19.18C(1)(a) through (c) is renumbered as 26.11.19.18C(1)(b) through (d).

(ii) Additional Material.—Remainder of the State submittal pertaining to the revisions listed in paragraph (c)(177)(i) of this section.

[FR Doc. 03-729 Filed 1-14-03; 8:45 am]

BILLING CODE 6560-50-U